DEPARTMENT OF JUSTICE

Notice of Lodging of Consent Decree Pursuant to the Comprehensive Environmental Response, Compensation and Liability Act

In accordance with Section 122 of the Comprehensive Environmental Response, Compensation, and Liability Act (“CERCLA”), 42 U.S.C. 9622, the Department of Justice gives notice that a proposed Consent Decree in United States v. FMC Corporation and BAE Systems Land & Armaments, LLP, Civil No. 08-cv-06240 (D. Minn.), was lodged with the United States District Court for the District of Minnesota on December 3, 2008, pertaining to the Naval Industrial Reserve Ordnance Plant Superfund Site (the “Site”), located in Fridley, Anoka County, Minnesota. In this action, the United States brought civil claims under Sections 107 and 113(g)(2) of CERCLA, 42 U.S.C. 9607 and 9613(g)(2), against FMC Corporation (“FMC”) and BAE Systems Land & Armaments, LLP (“BAE Systems”) (collectively, “Settling Defendants') for recovery of response costs incurred and to be incurred by the United States at the Site.

The proposed Consent Decree requires FMC and BAE Systems to reimburse the United States $4.14 million in payment of the Navy's response costs, and $460,000 in payment of EPA's response costs, incurred at the Site. A portion, $850,000, of the total payment has been designated as “Consent Decree Unallowed Costs” under Settling Defendants' Federal Contracts.

The Department of Justice will receive, for a period of fifteen (15) days from the date of this publication, comments relating to the proposed Consent Decree. Commenters may request an opportunity for a public meeting in the affected area, in accordance with Section 7003(d) of the Resource Conservation and Recovery Act, 42 U.S.C. 6973(d). Comments should be addressed to the Assistant Attorney General, Environment and Natural Resources Division, and either emailed to pubcomment-ees.enrd@usdoj.gov or mailed to United States Department of Justice, P.O. Box 7611, Washington, DC 20044-7611, and should refer to United States v. FMC Corporation and BAE Systems Land & Armaments, LLP, Civil No. 08-cv-06240 (D. Minn.), and DOJ Reference No. 90-11-3-07002/1.

The proposed Consent Decree may be examined at: (1) The Office of the United States Attorney for the District of Minnesota, 600 U.S. Courthouse, 300 South Fourth St., Minneapolis, MN 55415 ((612) 664-5697); (2) the United States Environmental Protection Agency (Region 5), 77 West Jackson Blvd., Chicago, IL 60604-3507 (contact: Timothy Thurlow (312) 886-6623); or (3) United States Department of Navy, Office of General Counsel, 720 Kennon St. SE., Bldg. 36, Rm. 233, Washington, DC 20374-5013 (contact: Perry Sobel (202) 685-6997).

During the public comment period, the proposed Consent Decree may also be examined on the following U.S. Department of Justice website, http://www.usdoj.gov/enrd/Consent_Decrees.html. A copy of the proposed Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation no. (202) 514-1547. In requesting a copy from the Consent Decree Library, please refer to the referenced case and DOJ Reference Number and enclose a check in the amount of $17.75 for the Consent Decree (71 pages including appendices, at 25 cents per page reproduction costs), made payable to the U.S. Treasury or, if by e-mail or fax, forward a check in that amount to the Consent Decree Library at the stated address.

William D. Brighton,
Assistant Chief, Environmental Enforcement Section, Environment and Natural Resources Division.

[FR Doc. E8-29063 Filed 12-8-08; 8:45 am]

BILLING CODE 4410-15-P